DEPARTMENT OF HEALTH AND HUMAN SERVICES

National Institutes of Health

Center for Scientific Review; Amended Notice of Meeting

Notice is hereby given of a change in the meeting of the Diagnostic Radiology Study Section, October 16, 2000, 8 am to October 17, 2000, 5 pm, Georgetown Holiday Inn, 2101 Wisconsin Avenue, NW, Washington, DC 20007 which was published in the Federal Register on October 5, 2000, 65 FR 59454-59456.

The meeting will be held at the Georgetown Suites, 1111 30th Street, NW, Washington, DC. The dates and time remain the same. The meeting is closed to the public.

Dated: October 6, 2000.
LaVerne Y. Stringfield,
Director, Office of Federal Advisory Committee Policy.

[FR Doc. 00-26578 Filed 10-16-00; 8:45 am]

BILLING CODE 4140-01-M